DEPARTMENT OF JUSTICE

Office on Violence Against Women; Notice of Meeting

AGENCY: Office on Violence Against Women, Justice.

ACTION: Notice of meeting.

SUMMARY: This notice sets forth the schedule and proposed agenda of the forthcoming public meeting of the National Advisory Committee on Violence Against Women (hereinafter Athe Committee@).

DATES: The meeting will take place on April 25, 2006, from 8:30 a.m. to 5 p.m. and on April 26, 2006, from 8:30 am to 12 noon.

ADDRESSES: The meeting will take place at the Westin City Center, 650 North Pearl Street, Dallas, TX 75201. Signs will be posted in the lobby of the hotel to direct attendees to the meeting location.

FOR FURTHER INFORMATION CONTACT: Sandy Lonick, The National Advisory Committee on Violence Against Women, 800 K Street, NW., Ste. 920, Washington, DC 20530; by telephone at: (202) 307-6026; e-mail: Saundra.Lonick@usdoj.gov; or fax: (202) 307-3911. You may also view the Committee's Web site at: http://www.usdoj.gov/ovw/nac/welcome.html.

SUPPLEMENTARY INFORMATION: Notice of this meeting is required under section 10(a)(2) of the Federal Advisory Committee Act. The Committee is chartered by the Attorney General, and co-chaired by the Attorney General and the Secretary of Health and Human Services (the Secretary), to provide the Attorney General and the Secretary with practical and general policy advice concerning implementation of the Violence Against Women Act of 1994, the Violence Against Women Act of 2000, the Violence Against Women Act of 2005 and related laws. The Committee also assists in the efforts of the Department of Justice and the Department of Health and Human Services to combat violence against women, especially domestic violence, sexual assault, and stalking. Because violence against women is increasingly recognized as a public health problem of staggering human cost, the Committee brings national attention to the problem to increase public awareness of the need for prevention and enhanced victim services.

This meeting will primarily focus on the Committee's work and the Federal Government's response to violence against women; there will, however, be an opportunity for public comment on the Committee's role in providing general policy guidance on implementation of the Violence Against Women Act of 1994, the Violence Against Women Act of 2000, the Violence Against Women Act of 2005 and related laws.

Schedule: This meeting will be held on April 25, 2006, from 8:30 a.m. until 5 p.m. and on April 26, 2006 from 8:30 a.m. until 12 noon, and will include breaks and a working lunch. Time will be reserved for public comment on April 25 beginning at 10:45 a.m. and ending at 11:15 a.m., and on April 26 beginning at 11:15 a.m. and ending at 11:45 a.m. See the section below for information on reserving time for public comment.

Access: This meeting will be open to the public but registration on a space-available basis is required. Persons who wish to attend must register at least six (6) days in advance of the meeting by contacting Sandy Lonick by e-mail at: Saundra.Lonick@usdoj.gov; or fax: (202) 307-3911. All attendees will be required to sign in at the meeting registration desk. Please bring photo identification and allow extra time prior to the meeting. The meeting site is accessible to individuals with disabilities. Individuals who require special accommodations in order to attend the meeting should notify Sandy Lonick by e-mail at: Saundra.Lonick@usdoj.gov; or fax at: (202) 307-3911, no later than April 11, 2006. After this date, we will attempt to satisfy accommodation requests, but cannot guarantee the availability of any requests.

Written Comments: Interested parties are invited to submit written comments by April 20, 2006 to Sandy Lonick at The National Advisory Committee on Violence Against Women, 800 K Street, NW., Ste. 920, Washington, DC 20530. Comments may also be submitted by e-mail at Saundra.Lonick@usdoj.gov; or fax at (202) 307-3911.

Public Comment: Persons interested in participating during the public comment period of the meeting, which will discuss the implementation of the Violence Against Women Act of 1994 and the Violence Against Women Act of 2000, the Violence Against Women Act of 2005 and related legislation, are requested to reserve time on the agenda by contacting Sandy Lonick by e-mail at Saundra.Lonick@usdoj.gov; or fax at (202) 307-3911. Requests must include the participant's name, organization represented, if appropriate, and a brief description of the issue. Each participant will be permitted approximately 3 to 5 minutes to present comments, depending on the number of individuals reserving time on the agenda. Participants are also encouraged to submit two written copies of their comments at the meeting.

Given the expected number of individuals interested in presenting comments at the meeting, reservations should be made as soon as possible. Persons unable to obtain reservations to speak during the meetings are encouraged to submit written comments, which will be accepted at the meeting site or may be mailed to the Committee at 800 K Street, NW., Ste. 920, Washington, DC 20530.

Diane M. Stuart,
Director, Office on Violence Against Women.

[FR Doc. E6-5788 Filed 4-18-06; 8:45 am]

BILLING CODE 4410-FX-P